DEPARTMENT OF ENERGY

Federal Energy Regulatory Commission

Combined Notice of Filings #1

Take notice that the Commission received the following electric rate filings:

Docket Numbers: ER19-1943-003.

Applicants: North Western Corporation.

Description: Compliance filing: Order Nos. 845 & 845-A Third Compliance Filing to be effective 5/22/2019.

Filed Date: 10/15/20.

Accession Number: 20201015-5100.

Comments Due: 5 p.m. ET 11/5/20.

Docket Numbers: ER20-2888-001.

Applicants: Townsite Solar, LLC.

Description: Second Supplement to September 16, 2020 Townsite Solar, LLC tariff filing.

Filed Date: 10/14/20.

Accession Number: 20201014-5152.

Comments Due: 5 p.m. ET 10/26/20.

Docket Numbers: ER21-105-000.

Applicants: PJM Interconnection, L.L.C.

Description: § 205(d) Rate Filing: Original ISA, SA No. 5794; Queue No. AD2-110 to be effective 9/14/2020.

Filed Date: 10/14/20.

Accession Number: 20201014-5118.

Comments Due: 5 p.m. ET 11/4/20.

Docket Numbers: ER21-106-000.

Applicants: ISO New England Inc.

Description: § 205(d) Rate Filing: ISO-NE 2021 Capital Budget & Rev. Tariff Sheets for Recovery of 2021 Admin Costs to be effective 1/1/2021.

Filed Date: 10/15/20.

Accession Number: 20201015-5020.

Comments Due: 5 p.m. ET 11/5/20.

Docket Numbers: ER21-108-000.

Applicants: ISO New England Inc.

Description: ISO New England Inc. submits Third Quarter 2020 Capital Budget Report.

Filed Date: 10/15/20.

Accession Number: 20201015-5024.

Comments Due: 5 p.m. ET 11/5/20.

Docket Numbers: ER21-109-000.

Applicants: PJM Interconnection, L.L.C.

Description: § 205(d) Rate Filing: Amendment to WMPA, SA No. 4768; Queue No. AC1-117 to be effective 8/4/2017.

Filed Date: 10/15/20.

Accession Number: 20201015-5040.

Comments Due: 5 p.m. ET 11/5/20.

Docket Numbers: ER21-110-000.

Applicants: Harts Mill TE Holdings LLC.

Description: Baseline eTariff Filing: Application For Market Based Rate Authority to be effective 11/14/2020.

Filed Date: 10/15/20.

Accession Number: 20201015-5042.

Comments Due: 5 p.m. ET 11/5/20.

Docket Numbers: ER21-111-000.

Applicants: Old Dominion Electric Cooperative.

Description: § 205(d) Rate Filing: ODEC Errata Filing Related to Superseding Cost-of-Service Rate Schedule to be effective 1/1/2021.

Filed Date: 10/15/20.

Accession Number: 20201015-5067.

Comments Due: 5 p.m. ET 11/5/20.

Docket Numbers: ER21-112-000.

Applicants: California Independent System Operator Corporation.

Description: § 205(d) Rate Filing: 2020-10-15 GMC Cost of Service Study to be effective 1/1/2021.

Filed Date: 10/15/20.

Accession Number: 20201015-5077.

Comments Due: 5 p.m. ET 11/5/20.

Docket Numbers: ER21-113-000.

Applicants: ISO New England Inc.

Description: § 205(d) Rate Filing: ISO-NE; Rev. Tariff Sheet for Recovery of Costs for the 2021 Operation NESCOE to be effective 1/1/2021.

Filed Date: 10/15/20.

Accession Number: 20201015-5078.

Comments Due: 5 p.m. ET 11/5/20.

Docket Numbers: ER21-114-000.

Applicants: PJM Interconnection, L.L.C.

Description: § 205(d) Rate Filing: Original WMPA SA No. 5817; Queue No. AF2-085 to be effective 9/15/2020.

Filed Date: 10/15/20.

Accession Number: 20201015-5089.

Comments Due: 5 p.m. ET 11/5/20.

Docket Numbers: ER21-115-000.

Applicants: Duke Energy Florida, LLC.

Description: § 205(d) Rate Filing: DEF-Williston Amended and Restated SA No. 146 to be effective 1/1/2021.

Filed Date: 10/15/20.

Accession Number: 20201015-5092.

Comments Due: 5 p.m. ET 11/5/20.

Docket Numbers: ER21-116-000.

Applicants: XO Energy CAL, LP.

Description: Baseline eTariff Filing: Baseline new to be effective 10/16/2020.

Filed Date: 10/15/20.

Accession Number: 20201015-5095.

Comments Due: 5 p.m. ET 11/5/20.

Docket Numbers: ER21-117-000.

Applicants: System Energy Resources, Inc.

Description: § 205(d) Rate Filing: SERI UPSA Ratebase Credit to be effective 10/16/2020.

Filed Date: 10/15/20.

Accession Number: 20201015-5098.

Comments Due: 5 p.m. ET 11/5/20.

Docket Numbers: ER21-118-000.

Applicants: PJM Interconnection, L.L.C.

Description: § 205(d) Rate Filing: Clean-up to OATT, section 36.1 to add accepted language in Docket No. ER19-2030 to be effective 4/1/2020.

Filed Date: 10/15/20.

Accession Number: 20201015-5115.

Comments Due: 5 p.m. ET 11/5/20.

Take notice that the Commission received the following electric reliability filings:

Docket Numbers: RR21-1-000.

Applicants: North American Electric Reliability Corporation.

Description: Petition for Approval of the Amended And Restated Bylaws of The North American Electric Reliability Corporation.

Filed Date: 10/14/20.

Accession Number: 20201014-5149.

Comments Due: 5 p.m. ET 11/4/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2020.
Nathaniel J. Davis, Sr.,
Deputy Secretary.

[FR Doc. 2020-23283 Filed 10-20-20; 8:45 am]

BILLING CODE 6717-01-P